DEPARTMENT OF HEALTH AND HUMAN SERVICES

Health Resources and Services Administration

Update to the Bright Futures Periodicity Schedule as Part of the HRSA-Supported Preventive Services Guidelines for Infants, Children, and Adolescents; Correction

AGENCY: Health Resources and Services Administration (HRSA), Department of Health and Human Services (HHS).

ACTION: Notices; correction.

SUMMARY: HRSA published documents in the Federal Register of October 24, 2023, and January 5, 2024, concerning updates to the Bright Futures Periodicity Schedule as part of the HRSA-supported preventive services guidelines for infants, children, and adolescents. These documents contained minor errors related to updates to two footnotes, including an error in the text of footnote 15 and an error in the description of footnote 21. These minor corrections align with information provided to the public on the Bright Futures web page and referenced by HRSA in the October 24, 2023, Federal Register notice that sought public comment on the proposed updates to the Bright Futures Periodicity Schedule. These corrections do not change the clinical recommendations in the Bright Futures Periodicity Schedule or the associated requirement for certain group health plans and health insurance issuers to provide coverage without cost-sharing under section 2713 of the Public Health Service Act.

FOR FURTHER INFORMATION CONTACT: Savannah Kidd, M.S. MFT, Sr. Public Health Advisor, Division of Child, Adolescent and Family Health, Maternal and Child Health Bureau, HRSA, telephone: (301) 287-2601, email: SKidd@hrsa.gov.

SUPPLEMENTARY INFORMATION:

Correction

In the Federal Register of January 5, 2024, FR Doc. 2024-00024, on page 790, column 3, paragraph 2, correct the text of updated footnote 15 to read as follows: “A recommended tool to assess use of alcohol, tobacco and nicotine, and marijuana and other substances, including opioids, is available at http://crafft.org.” The document incorrectly omitted the phrase, “and other substances, including opioids,” in this sentence.

In the Federal Register of January 5, 2024, FR Doc. 2024-00024, on page 790, column 3, paragraph 3, correct the description of the update to footnote 21 to read as follows: “This updated reference aligns with the Bright Futures recommendation for universal bilirubin screening for all newborn infants between 24 and 48 hours after birth.” The document incorrectly included the phrase “between 24 and 28 hours after birth” in this sentence.

In the Federal Register of October 24, 2023, FR Doc. 2023-23396, on page 73035, column 3, paragraph 3, correct the description of the proposed update to footnote 21 to read as follows: “This reference aligns with the Bright Futures recommendation for universal bilirubin screening for all newborn infants between 24 and 48 hours after birth.” The document incorrectly included the phrase “between 24 and 28 hours after birth.”

Maria G. Button,
Director, Executive Secretariat.

[FR Doc. 2024-02959 Filed 2-12-24; 8:45 am]

BILLING CODE 4165-15-P